INTERNATIONAL TRADE COMMISSION

[Investigation No. 332-582]

Monitoring of Fresh or Chilled Bell Peppers

AGENCY: International Trade Commission.

ACTION: Notice of Investigation and Scheduling of a Public Hearing.

SUMMARY: Following receipt on November 4, 2020, of a request from the U.S. Trade Representative (USTR), the Commission instituted Investigation No. 332-582, Monitoring of Fresh or Chilled Bell Peppers, under section 332(g) of the Tariff Act of 1930 for the purpose of collecting and analyzing information that would expedite an investigation under section 202(b) of the Trade Act of 1974 (Trade Act) (the U.S. global safeguard law). For purposes of this investigation, the fresh or chilled bell peppers are those provided for in statistical reporting numbers 0709.60.4015, 0709.60.4025, 0709.60.4065, and 0709.60.4085 of the Harmonized Tariff Schedule of the United States (HTS).

DATES: (date of publication in the Federal Register): Commencement of monitoring.

ADDRESSES: All Commission offices, including the Commission's hearing rooms, are located in the U.S. International Trade Commission Building, 500 E Street SW, Washington, DC. All written submissions should be submitted electronically and addressed to the Secretary, U.S. International Trade Commission, 500 E Street SW, Washington, DC 20436. The public record for this investigation may be viewed on the Commission's electronic docket (EDIS) at https://edis.usitc.gov.

FOR FURTHER INFORMATION CONTACT: Project Leader Steven LeGrand (202-205-3094 or steven.legrand@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov).

Persons with mobility impairments who will need special assistance in gaining access to the Commission should contact the Office of the Secretary at 202-205-2000.

SUPPLEMENTARY INFORMATION: On October 6, 2020, the Florida Fruit and Vegetable Association, and the Florida Farm Bureau requested that U.S. imports of bell peppers be monitored under the perishable agricultural product provisions of section 202(d)(1) of the Trade Act (19 U.S.C. 2252(d)(1). In response to that request, the USTR determined that imports of bell peppers satisfy the requirements of section 202(d)(1)(A) of the Trade Act.

Accordingly, in accordance with section 202(d)(1)(B) of the Trade Act, the USTR requested, under section 332(g) of the Tariff Act of 1930, that the Commission monitor and investigate imports of fresh or chilled bell peppers, provided for in statistical reporting numbers 0709.60.4015, 0709.60.4025, 0709.60.4065, and 0709.60.4085 of the HTS. He further requested that the monitoring and investigation include the collection and analysis of information that would expedite an investigation under section 202(b) of the Trade Act. He further stated that the product in question consists of all imports that fall within the product description under the above HTS statistical reporting numbers.

Section 202(d)(1)(C) of the Trade Act provides procedures under which domestic producers of a perishable agricultural product may, in a petition filed under section 202(a) of the Trade Act, request provisional relief. Under those procedures, if the Commission has monitored imports of the article for at least 90 days, the domestic industry may, in such a petition, request a preliminary determination and provisional relief pending completion of a full Commission investigation. Should that occur, the Commission would have 21 days, from the day on which the request was received, to make a preliminary injury determination, and if in the affirmative, to recommend provisional relief to the President.

Public Hearing: No public hearing is planned at this time in connection with this investigation. However, should a public hearing or conference be scheduled, the Commission will publish a notice in the Federal Register and post information about the hearing on the Commission's website at (https://usitc.gov/research_and_analysis/what_we_are_working_on.htm). Once on that web page, scroll down to the entry for Investigation No. 332-582, Monitoring of Fresh or Chilled Bell Peppers, and click on the link to “hearing instructions.”

Written Submissions: Interested parties are invited to file written submissions concerning this investigation. The Commission is particularly interested in receiving information about imports, principal source countries, and impact of the imports on the domestic industry producing the like or directly competitive product. The Commission is also interested in receiving information about the condition of the domestic industry, including with respect to production, employment, profits and losses, and other factors set out in section 202(c) of the Trade Act. To the extent practical, data and information should include the period 2016-2020 and any subsequent period.

All written submissions should be addressed to the Secretary, and should be received not later than 5:15 p.m., January 15, 2021. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential Business Information. Any submissions that contain confidential business information (CBI) must also conform to the requirements of section 201.6 of the Commission's Rules of Practice and Procedure (19 CFR 201.6). Section 201.6 of the rules requires that the cover of the document and the individual pages be clearly marked as to whether they are the “confidential” or “non- confidential” version, and that the confidential business information is clearly identified by means of brackets. All written submissions, except for confidential business information, will be made available for inspection by interested parties.

Limited Disclosure of CBI. Should a petition be filed under section 202(a) of the Trade Act and an investigation be instituted under section 202(b) of the Trade Act with respect to the products covered by this investigation, the Secretary will make some or all of the CBI obtained in this monitoring investigation available, pursuant to § 206.17 of the Commission's rules, to authorized applicants under an administrative protective order (APO) issued in that investigation in accordance with the procedures set forth in section 206.17 of the rules.

The Commission may also include some or all CBI submitted in this investigation in the report it sends to the President and the U.S. Trade Representative in an investigation conducted under section 202(b) or in a related investigation. The Commission will not otherwise disclose information which it considers to be CBI unless the party submitting the information had notice, at the time of submission, that such information would be released by the Commission, or such party subsequently consents to the release of the information. See 19 U.S.C. 2252(a)(8) and 19 U.S.C. 1332(g).

Authority: This investigation is being conducted under authority of section 202(d)(1)(B) of the Trade Act and section 332(g) of the Tariff Act of 1930.

By order of the Commission.
Issued: December 2, 2020.
Lisa Barton,
Secretary to the Commission.

[FR Doc. 2020-26858 Filed 12-4-20; 8:45 am]

BILLING CODE 7020-02-P